DEPARTMENT OF TRANSPORTATION

Federal Motor Carrier Safety Administration

[Docket No. FMCSA-2013-0386]

Parts and Accessories Necessary for Safe Operation; Grant of Temporary Exemption for Volvo/Prevost LLC

AGENCY: Federal Motor Carrier Safety Administration (FMCSA), DOT.

ACTION: Notice of final disposition.

SUMMARY: The Federal Motor Carrier Safety Administration (FMCSA) announces its decision to grant Volvo/Prevost, LLC's (Volvo/Prevost) application for a limited two-year exemption from 49 CFR 393.60(e)(1) on behalf of motor carriers that will be operating commercial motor vehicles (CMV) manufactured by the company to use lane departure warning (LDW) systems mounted in the windshield area at a height lower than what is currently allowed by the regulation. The LDW system alerts drivers who unintentionally drift out of their lane of travel, thus promoting improved safety performance. The Agency has determined that the placement of the LDW system camera in the windshield area would not have an adverse impact on safety and that the terms and conditions of the exemption would achieve a level of safety equivalent to or greater than the level of safety provided by the regulation.

DATES: This exemption is effective from March 13, 2015 through March 13, 2017.

FOR FURTHER INFORMATION CONTACT: Mr. Mike Huntley, Vehicle and Roadside Operations Division, Office of Carrier, Driver, and Vehicle Safety, MC-PSV, (202) 366-4325, Federal Motor Carrier Safety Administration, 1200 New Jersey Avenue SE., Washington, DC 20590-0001.

Docket: For access to the docket to read background documents or comments submitted to the notice requesting public comments on the exemption application, go to www.regulations.gov at any time or visit Room W12-140 on the ground level of the West Building, 1200 New Jersey Avenue SE., Washington, DC, between 9 a.m. and 5 p.m., ET, Monday through Friday, except Federal holidays. The on-line Federal document management system is available 24 hours each day, 365 days each year. The docket number is listed at the beginning of this notice.

SUPPLEMENTARY INFORMATION:

Background

FMCSA has authority under 49 U.S.C. 31136(e) and 31315 to grant exemptions from certain parts of the Federal Motor Carrier Safety Regulations (FMCSR). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

Volvo/Prevost's Application for Exemption

Volvo/Prevost applied for an exemption from 49 CFR 393.60(e)(1) to allow the installation of an LDW system on motorcoaches purchased by its customers. A copy of the application is included in the docket referenced at the beginning of this notice.

Section 393.60(e)(1) of the FMCSRs prohibits the obstruction of the driver's field of view by devices mounted at the top of the windshield. Antennas, transponders and similar devices must not be mounted more than 152 mm (6 inches) below the upper edge of the windshield. These devices must be located outside the area swept by the windshield wipers and outside the driver's sight lines to the road and highway signs and signals.

The application stated:

Volvo/Prevost is making this request so it is possible to introduce a Lane Departure Warning system in line with [the] NHTSA Bus Safety plan as it already did for several other safety features. The camera must be installed in the wiper swept area of [the] windshield for the system to perform correctly because it must have a clear forward facing view of the road. On a today's typical coach the lower part of the windshield is outside the driver's sight lines to the road and highway signs and signals which is different from a truck. Therefore, we request the installation of the camera on the lower part of the windshield within the bottom 7 inches of the wiper swept area.

In addition, Volvo/Prevost noted that without the proposed temporary exemption, it would not be able to deploy the LDW system in motorcoaches because (1) its customers would be fined for violating the current regulation, (2) the LDW system would not perform adequately and would not bring the safety benefits expected, and (3) the camera would be more in the field of view of the driver. Volvo/Prevost states that if the exemption is granted, it “will be able to install the LDW camera system in a location which will offer the best opportunity to optimize the data and evaluate the benefits of such a system.”

Comments

FMCSA published a notice of the application in the Federal Register on December 18, 2013, and asked for public comment (78 FR 76702).

The Agency received one comment, from Greyhound Lines, Inc. (Greyhound). Greyhound stated that it “has a substantial number of motorcoaches manufactured by Prevost in its fleet and has been an industry leader in adding innovative safety equipment to its motorcoaches.” Greyhound strongly supports the granting of the exemption, stating that it “believes that the lane departure warning (LDW) system that Prevost plans to install on its motorcoaches can be a useful tool for enhancing motorcoach safety if properly installed,” and agreed with Volvo/Prevost's assertion that “the camera must be installed in the wiper swept area of [the] windshield for the system to perform correctly because it must have a clear forward facing view of the road.” Greyhound agreed that installation of the LDW camera within the bottom 7 inches of the wiper swept area “will maximize its effectiveness as a safety tool while not impeding the driver's sight lines.”

FMCSA Decision

The FMCSA has evaluated the Volvo/Prevost exemption application. The Agency believes that granting the temporary exemption to allow the placement of LDW systems lower in the windshield than is currently permitted by the Agency's regulations will provide a level of safety that is equivalent to, or greater than, the level of safety achieved without the exemption because (1) based on the technical information available, there is no indication that the LDW systems would obstruct drivers' views of the roadway, highway signs and surrounding traffic; (2) generally, buses have an elevated seating position that greatly improves the forward visual field of the driver, and any impairment of available sight lines would be minimal; and (3) the location within the bottom seven inches of the area swept by the windshield wiper and out of the driver's normal sightline will be reasonable and enforceable at roadside. In addition, the Agency believes that the use of LDW systems by fleets is likely to improve the overall level of safety to the motoring public.

This action is consistent with previous Agency actions permitting the placement of LDW systems on CMVs within the swept area of the windshield wipers. In November 2011, FMCSA granted temporary exemptions to Con-way, Takata, and Iteris enabling the mounting of LDW system sensors not more than 2 inches below the upper edge of the area swept by the windshield wipers and outside the driver's sight lines to the road and highway signs and signals. The Agency recently renewed these exemptions for a second 2-year period, as FMCSA is not aware of any evidence showing that the installation of the devices has resulted in any degradation in safety. Further, while the original exemption granted relief to motor carriers using only the Takata and Iteris LDW systems, the Agency determined that it was appropriate to extend the scope of the exemption to motor carriers using any LDW system, given that FMCSA is unaware of any reduction in the level of safety associated with the use of those systems.

However, the provisions of that exemption cannot apply to the Volvo/Prevost application, as the requested mounting location for the Volvo/Prevost LDW system is at the lower portion of the windshield, within the bottom 7 inches of the wiper swept area, as opposed to the mounting location permitted by the other exemption, which is not more than 2 inches below the upper edge of the area swept by the windshield wipers. Notwithstanding the different mounting location, and for the reasons discussed above, FMCSA believes that allowing the placement of LDW systems in the lower portion of the windshield, within the swept area of the wipers, will provide a level of safety that is equivalent to, or greater than the level of safety achieved without the exemption. FMCSA continues to believe that the potential safety gains from the use of LDW systems to improve driver performance will improve the overall level of safety to the motoring public.

Terms and Conditions for the Exemption

The Agency hereby grants the exemption for a two-year period, beginning March 13, 2015 and ending March 13, 2017. During the temporary exemption period, motor carriers operating motorcoaches manufactured by Volvo/Prevost must ensure that the LDW systems are mounted not more than 7 inches above the lower edge of the area swept by the windshield wipers, and outside the driver's sight lines to the road and highway signs and signals. The exemption will be valid for two years unless rescinded earlier by FMCSA. The exemption will be rescinded if: (1) Motor carriers operating motorcoaches manufactured by Volvo/Prevost fail to comply with the terms and conditions of the exemption; (2) the exemption has resulted in a lower level of safety than was maintained before it was granted; or (3) continuation of the exemption would not be consistent with the goals and objectives of 49 U.S.C. 31136(e) and 31315(b).

Interested parties possessing information that would demonstrate that motor carriers operating motorcoaches manufactured by Volvo/Prevost are not achieving the requisite statutory level of safety should immediately notify FMCSA. The Agency will evaluate any such information and, if safety is being compromised or if the continuation of the exemption is not consistent with 49 U.S.C. 31136(e) and 31315(b), will take immediate steps to revoke the exemption.

Preemption

During the period the exemption is in effect, no State shall enforce any law or regulation that conflicts with or is inconsistent with this exemption with respect to a person operating under the exemption.

Issued on: March 2, 2015.
T. F. Scott Darling, III,
Acting Administrator.

[FR Doc. 2015-05634 Filed 3-12-15; 8:45 am]

BILLING CODE 4910-EX-P